DEPARTMENT OF ENERGY

[OE Docket No. PP-371]

Notice of Public Hearings for the Draft Northern Pass Transmission Line Project Environmental Impact Statement and the Supplement to the Draft EIS

AGENCY: Department of Energy.

ACTION: Notice of public hearings.

SUMMARY: The U.S. Department of Energy (DOE) announces public hearings to receive comments on the Draft EIS (DOE/EIS-0463) and the Supplement to the Draft EIS (DOE/EIS-0463 S1). The Draft EIS and the Supplement to the Draft EIS evaluate the potential environmental impacts of DOE's proposed Federal action of issuing a Presidential permit to Northern Pass LLC (the Applicant) to construct, operate, maintain, and connect a new electric transmission line across the U.S./Canada border in northern New Hampshire.

DATES: The public review period to receive comments on the Draft EIS and the Supplement to the Draft EIS closes on January 4, 2016. See the Public Participation section for more information about submitting comments.

DOE will conduct public hearings to receive oral and written comments on the draft EIS and the Supplement to the Draft EIS at the following locations commencing at the times identified:

Whitefield: Tuesday December 15, 2015, 1:00 p.m. and 6:00 p.m., Mountain View Grand Resort and Spa, Presidential Room, 101 Mountain View Road, Whitefield, NH 03598.

Concord: Wednesday December 16, 2015, 6:00 p.m., Grappone Conference Center, Granite Ballroom, 70 Constitution Avenue, Concord, NH 03301.

Plymouth: Thursday December 17, 2015, 6:00 p.m., Plymouth State University, Ice Arena Welcome Center, 129 NH Route 175A, Holderness, NH 03245.

ADDRESSES: Requests to pre-register to provide oral comments at a public hearing should be addressed to the Northern Pass EIS Team at this email address: info@northernpasseis.us.

Comments on the draft EIS and the Supplement to the Draft EIS can be submitted verbally during public hearings or in writing to Mr. Brian Mills at: Office of Electricity Delivery and Energy Reliability (OE-20), U.S. Department of Energy, 1000 Independence Avenue SW., Washington, DC 20585; via email to draftEIScomments@northernpasseis.us; by facsimile to (202) 586-8008; or through the project Web site at http://www.northernpasseis.us/.

FOR FURTHER INFORMATION CONTACT: Mr. Brian Mills at the addresses above, or at 202-586-8267.

SUPPLEMENTARY INFORMATION:

Public Participation

Comments: DOE invites interested Members of Congress, state and local governments, other Federal agencies, American Indian tribal governments, organizations, and members of the public to provide comments on the Draft EIS and the Supplement to the Draft EIS.

The public comment period on the Draft EIS started on July 31, 2015, with the publication in the Federal Register by the U.S. Environmental Protection Agency of its Notice of Availability of the Draft EIS, and the public comment period on the Supplement began on November 20, 2015 with publication in the Federal Register by the U.S. Environmental Protection Agency of its Notice of Availability of the Supplement to the Draft EIS.

The public review period to receive comments on the Draft EIS and the Supplement to the Draft EIS closes on January 4, 2016. Please mark envelopes and electronic mail subject lines as “NP Draft EIS Comments.” Written comments should be submitted by January 4, 2016. Written and oral comments will be given equal weight and all comments received or postmarked by that date will be considered by DOE in preparing the Final EIS. Comments submitted (e.g., postmarked) after that date will be considered to the extent practicable.

Public Hearings: When requesting to pre-register to provide oral comments at a public hearing (see the DATES section for times and locations), please include your full name and email address, and specify the location you request to speak at. For the Whitefield, NH meeting, please indicate which meeting time you wish to speak at. Please state in the subject line, “NP Draft EIS Public Hearing Speaker Request.” Please submit your request by December 7, 2015; requests received by that date will be given priority in the speaking order. However, requests to speak may also be made at the hearing. The speaking order will be as follows: (1) Elected Officials; (2) Pre-registered speakers (order determined on a first-come, first-served basis); (3) Speakers registering at the meeting. Pre-registered speakers who have requested to speak at a specific time will be accommodated as possible.

Availability of the Draft EIS and the Supplement to the Draft EIS

The documents are available online at http://www.northernpasseis.us/. Copies of the draft EIS and the Supplement to the Draft EIS are also available at a number of public libraries and town halls (a list of locations is found here: http://media.northernpasseis.us/media/DraftEIS_Hard_Copy_Locations.pdf.)

Printed copies of the documents may be obtained by contacting Mr. Mills at the above address.

Issued in Washington, DC, on November 13, 2015.
Meghan Conklin,
Deputy Assistant Secretary, National Electricity Delivery, Office of Electricity Delivery and Energy Reliability.

[FR Doc. 2015-29688 Filed 11-19-15; 8:45 am]

BILLING CODE 6450-01-P